DEPARTMENT OF ENERGY

Federal Energy Regulatory Commission

[Docket No. ER00-605-000]

Central Maine Power Company, Notice of Filing

February 9, 2000.

Take notice that on January 19, 2000, Central Maine Power Company (CMP or Central Maine) provided unredacted copies of a Hydro Quebec Entitlement Agreement (Entitlement Agreement) between CMP and Select Energy, Inc. (Select), in compliance with the Commission's January 11, 2000 Order Denying A Request for Confidential Treatment.

CMP reiterates its request for a final non-appealable order on or before February 22, 2000.

CMP states that copies of the filing have been sent to Select and the Maine Department of Public Utilities Commission.

Any person desiring to be heard or to protest such filing should file a motion to intervene or protest with the Federal Energy Regulatory Commission, 888 First Street, NE, Washington, DC 20426, in accordance with Rules and 214 of the Commission's Rules of Practice and Procedure (18 CFR 385.211 and 385.214). All such motions and protests should be filed on or before February 18, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

Linwood A. Watson, Jr.,
Acting Secretary.

[FR Doc. 00-3462 Filed 2-14-00; 8:45 am]

BILLING CODE 6717-01-M